DEPARTMENT OF COMMERCE

International Trade Administration

Export Trade Certificate of Review

ACTION: Notice of application.

SUMMARY: The Office of Export Trading Company Affairs (“OETCA”), International Trade Administration, Department of Commerce, has received an application for an Export Trade Certificate of Review. This notice summarizes the conduct for which certification is sought and requests comments relevant to whether the Certificate should be issued.

FOR FURTHER INFORMATION CONTACT: Jeffrey C. Anspacher, Director, Office of Export Trading Company Affairs, International Trade Administration, by telephone at (202) 482-5131 (this is not a toll-free number), or by e-mail at oetca@ita.doc.gov.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether a Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice to: Office of Export Trading Company Affairs, International Trade Administration, Department of Commerce, Room 1104H, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 04-00001.” A summary of the application follows.

Summary of the Application

Applicant: Gold Star Exporters Ltd., 405 V E Washington Street, Lake Charles, Louisiana 70601.

Contact: Brenda J. Charles, President/CEO.

Telephone: (337) 433-5980.

Application No.: 04-00001.

Date Deemed Submitted: February 19, 2004.

Members (in addition to applicant): None.

Gold Star Exporters Ltd. seeks a Certificate to cover the following specific Export Trade, Export Markets, and Export Trade Activities and Methods of Operations.

Export Trade

1. Products

All products.

2. Services

All services.

3. Technology Rights

Technology Rights, including, but not limited to, patents, trademarks, copyrights and trade secrets that relate to Products and Services.

4. Export Trade Facilitation Services (as they Relate to the Export of Products, Services and Technology Rights)

Export Trade Facilitation Services, including, but not limited to, professional services and assistance relating to: government relations; state and federal export programs; foreign trade and business protocol; consulting; market research and analysis; collection of information on trade opportunities; marketing; negotiations; joint ventures; shipping and export management; export licensing; advertising; documentation and services related to compliance with customs requirements; insurance and financing; trade show exhibitions; organizational development; management and labor strategies; transfer of technology; transportation services; and the formation of shippers' associations.

Manner of goods and services will be obtained or provided by sourcing products by acting as producers' export arm earning commissions and/or taking title to products and services, then exporting on our own account along multiple or single product or service lines. The firm will also represent competing producers of products and services in markets where product lines are complementary and appeal to the same customers.

Prices and quantities will be set based on each transaction for our own accounts, or long-term sales and quantity agreements set by producer or foreign retailer/distributor.

Gold Star Exporters Ltd. will employ basic trade arrangements and more sophisticated ones, such as counter-trade, quantity price breaks, discounts for cash deals, cash-down payments, guaranteed loans, low-interest loans, time payments, and home factory trips for training.

Care will be taken to avoid corrupt practices by making sure everything is in the contract and priced.

Exchange of sensitive business information will be done only when permitted and agreed to by all parties involved, provided that the product or service lines are complementary and appeal to the same customers. Brand names will not be used unless an agreement or arrangement to protect the privacy of producers' sensitive business information has been reached.

Export Markets

The Export Markets include all parts of the world except the United States (the fifty states of the United States, the District of Columbia, the Commonwealth of Puerto Rico, the Virgin Islands, American Samoa, Guam, the Commonwealth of the Northern Mariana Islands, and the Trust Territory of the Pacific Islands).

Export Trade Activities and Methods of Operation

With respect to the sale of Products and Services, licensing of Technology Rights and provisions of Export Trade Facilitation Services, Gold Star Exporters Ltd. may:

1. Sales Prices: Establish sale prices, minimum sale prices, target sale prices and/or minimum target sale prices, and other terms of sale in Export Markets for Products, Services, Technology Rights and/or Licensing;

2. Marketing and Distribution: Conduct marketing and distribution of Products, Services, Technology Rights, and Licensing in Export Markets. Collect the information on trade opportunities in the Export Markets and distribute such information to clients, suppliers, and export intermediaries;

3. Promotion: Conduct promotion of Products, Services, Technology Rights and Licensing;

4. Quantities: Set quantities of Products, Services, Technology Rights, and Licensing to be sold based on needs in the Export Markets and on information from in-country and domestic sources;

5. Market and Customer Allocation: Allocate geographic areas or countries in Export Markets and/or customers in Export Markets among suppliers, distributors and/or sales representatives for the sale and/or distribution of Products, Services, Technology Rights, and/or Licensing;

6. Refusals to Deal: Refuse to quote prices for Products, Services, Technology Rights and/or Licensing to or for any customers in the Export Markets, or any countries or geographical areas in the Export Markets;

7. Exclusive and Non-Exclusive Intermediaries: Enter into exclusive and non-exclusive agreements appointing one or more export intermediaries for the distribution of Products, Services, Technology Rights and Licensing with price, quantity, territorial and/or customer restrictions as provided above;

8. Exclusive and Non-Exclusive Suppliers: Enter into exclusive and/or non-exclusive agreements for the export of Products, Services, Technology Rights and Licensing with price, quantity, territorial and/or customer restrictions as provided above;

9. Order Allocation: Allocate export orders among suppliers;

10. Negotiation of Agreements: Negotiate, enter into, and/or manage licensing agreements for the export of Technology Rights;

11. Shipping: Enter into contracts for shipping;

12. Information Exchange: Exchange information on a one-on-one basis with individual Suppliers regarding inventories and near-term production schedules for the purpose of determining the availability of products for export and coordinating export with distributors. Confidential data is private and owned by each party of a transaction.

13. Gold Star Exporters Ltd. and its Suppliers and Export Intermediaries may exchange and discuss information on the following:

(a) Information about sales and marketing efforts for the Export Markets, activities and opportunities for sales of Products, Services, Technology Rights and Licensing in the Export Markets; selling strategies for the Export Markets, contract and spot pricing in the Export Markets; projected demands in Export Markets for Products, Services, prices and availability of Products, Services, Technology Rights, and Licensing from competitors for sale in the Export Markets; and specifications for Products, Services, Technology Rights, Licensing by customers in the Export Markets;

(b) Information about the price, quality, quantity, source, and delivery dates of Products, Services, Technology Rights, and Licensing available to export;

(c) Information about terms and conditions of contract for sale in the Export Markets to consider and/or bid on by Gold Star Exporters Ltd. and its suppliers and Export Intermediaries;

(d) Information about joint bidding or selling arrangements for the Export Markets and allocations of sales resulting from such arrangements among Suppliers;

(e) Information about expenses specific to exporting to and within the Export Markets, including without limitation, transportation, trans- or intermodal shipments, insurance, inland freight to port, port storage, commissions, export sales, documentation, financing, customs duties and taxes;

(f) Information about United States and foreign legislation and regulations, including federal marketing order programs affecting the Export Markets;

(g) Information about Gold Star Exporters Ltd. export operations, including without limitation, sales and distribution networks established by Gold Star Exporters Ltd. and prior export sales by Gold Star Exporters Ltd. (including export price information); and

(h) Information about export customer credit terms and credit history.

Definitions

1. “Supplier” means a person who produces, provides, or sells a Product and/or Service.

2. “Export Intermediaries” means a person who acts as distributor, sales representative, sales or marketing agent, or broker, or who performs similar functions, including providing, or arranging for the provision of, Export Trade Facilitation Services.

Dated: March 26, 2004.
Jeffrey C. Anspacher,
Director, Office of Export Trading, Company Affairs.

[FR Doc. 04-4754 Filed 3-2-04; 8:45 am]

BILLING CODE 3510-DR-P